DEPARTMENT OF THE TREASURY

Submission for OMB Review; Comment Request

February 25, 2003.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before April 3, 2003 to be assured of consideration.

Financial Crimes Enforcement Network (FinCEN)

OMB Number: New.

Form Number: None.

Type of Review: New collection.

Title: FinCEN Office of Regulatory Programs (ORP) Customer Satisfaction Survey.

Description: This survey will measure customer satisfaction with regulatory guidance provided by FinCEN.

Respondents: Business or other for-profit.

Estimated Number of Respondents: 200.

Estimated Burden Hours Per Respondent: 30 minutes.

Frequency of Response: Annually.

Estimated Total Reporting Burden: 100 hours.

Clearance Officer: Steve Rudzinski (703) 905-3845, Financial Crimes Enforcement Network, 2070 Chain Bridge Road, Suite 200, Vienna, VA 22182.

OMB Reviewer: Joseph F. Lackey, Jr. (202) 395-7316, Office of Management and Budget, Room 10235, New Executive Office Building, Washington, DC 20503.

Lois K. Holland,
Departmental Reports, Management Officer.

[FR Doc. 03-5018 Filed 3-3-03; 8:45 am]

BILLING CODE 4810-02-P